DEPARTMENT OF ENERGY

Western Area Power Administration

2005 Resource Pool

AGENCY: Western Area Power Administration, DOE.

ACTION: Notice of final power allocations.

SUMMARY: The Western Area Power Administration (Western), a Federal power marketing administration of DOE, published its 2004 Power Marketing Plan (Marketing Plan) for the Sierra Nevada Customer Service Region (Sierra Nevada Region) in the Federal Register. The Marketing Plan specifies terms and conditions under which Western will market power from the Central Valley Project (CVP) and the Washoe Project beginning January 1, 2005. The Marketing Plan sets aside a portion of the Sierra Nevada Region's marketable power resources to establish a 2005 Resource Pool for new power allocations. Western published a Call for 2005 Resource Pool Applications, a Notice of Extension to file applications, and Proposed 2005 Resource Pool Allocations in the Federal Register. The formal comment period on the proposed power allocations from the 2005 Resource Pool ended on July 5, 2000. A discussion of comments received is included in this notice. After considering all comments, Western has decided to finalize the proposed power allocations. This notice sets forth Western's final allocations of power from the 2005 Resource Pool.

DATES: The final 2005 Resource Pool allocations will become effective on August 25, 2000.

FOR FURTHER INFORMATION CONTACT: Howard Hirahara, Power Marketing Manager, Western Area Power Administration, Sierra Nevada Customer Service Region, 114 Parkshore Drive, Folsom, CA 95630-4710, (916) 353-4421, hirahara@wapa.gov.

SUPPLEMENTARY INFORMATION:

Authorities

Pursuant to its authorities under the Department of Energy Organization Act (42 U.S.C. 7101-7352); the Reclamation Act of June 17, 1902 (ch. 1093, 32 Stat. 388) as amended and supplemented by subsequent enactments, particularly section 9(c) of the Reclamation Project Act of 1939 (43 U.S.C. 485(c)); and other acts specifically applicable to the projects involved, Western established the Marketing Plan for sale of power by the Sierra Nevada Region after 2004. On June 25, 1999, Western published the Marketing Plan in the Federal Register (64 FR 34417), describing how the Sierra Nevada Region will market its power resources beginning January 1, 2005, through December 31, 2024. Pursuant to Western's authorities under the above acts and applying the rules developed in the Marketing Plan, Western publishes its final allocations of power from the 2005 Resource Pool in this notice.

Regulatory Procedural Requirements

Western addressed the regulatory procedure requirements in its rulemaking for the Marketing Plan (64 FR 34417). The proposed allocation of power in this notice is an application of the Marketing Plan and is not a separate rulemaking.

Background

On October 19, 1999, Western published the Call for 2005 Resource Pool Applications in the Federal Register (64 FR 56343). On December 9, 1999, Western published a Notice of Extension in the Federal Register (64 FR 69018). The Call for 2005 Resource Pool Applications required that applications be submitted by December 20, 1999, and the Notice of Extension extended the filing date by 30 days to January 19, 2000. On June 5, 2000, Western published the Proposed 2005 Resource Pool Applications in the Federal Register (65 FR 35630).

CVP power facilities are operated by the United States Department of the Interior, Bureau of Reclamation (Reclamation), and include 11 powerplants with a maximum operating capability of about 2,044 megawatts (MW), and an estimated average annual generation of 4.6 million megawatthours (MWh). Western markets and transmits power available from the CVP.

The Washoe Project's Stampede Powerplant is also operated by Reclamation and has a maximum operating capability of 3.65 MW with an estimated annual generation of 10,000 MWh. The Sierra Pacific Power Company owns and operates the only transmission system available for access to the Stampede Powerplant.

Western owns the 94 circuit-mile Malin-Round Mountain 500-kilovolt (kV) transmission line (an integral section of the Pacific Northwest-Pacific Southwest Intertie), 803 circuit miles of 230-kV transmission line, 7 circuit miles of 115-kV transmission line, and 44 circuit miles of 69-kV and below transmission line. Western also has part ownership in the 342-mile California-Oregon Transmission Project. Many of Western's existing customers have no direct access to Western's transmission lines and receive service over transmission lines owned by other utilities.

Responses to Comments Received on the Notice of Proposed 2005 Resource Pool Allocations (65 FR 35630, June 5, 2000)

During the comment period, Western received one letter commenting on the proposed allocations from the 2005 Resource Pool. Western reviewed and considered all comments made in this letter.

Comment: The commentor said that it was unclear in the notice what method Western used in determining how much allocation each eligible applicant received. Also, the commentor requested that an existing customer receive a greater allocation based on “the ratio of an existing customer's load not served by its current CRD allocation.”

Response: Under the Marketing Plan, Western used its discretion to allocate power to applicants that meet the eligibility and allocation criteria set forth in the Marketing Plan. The amount of power each eligible existing customer currently receives from Western was a consideration.

Comment: The commentor stated that new customers should not have a larger percentage of their load served by CVP than an existing customer.

Response: Artificially constraining allocations to new customers would defeat the purpose of the Power Marketing Initiative under the Energy Planning and Management Program (60 FR 54151, October 20, 1995), which led to establishing the Resource Pool. One of the primary reasons for establishing a Resource Pool was to promote the widespread use of Federal hydroelectric power among preference entities.

Final 2005 Resource Pool Allocations

Allocations are expressed as a percentage of the marketable resource. For illustrative purposes only, megawatt amounts are given assuming variable amounts of Base Resource. Allottees to receive power from the 2005 Resource Pool, allocations expressed as percentages of the Base Resource, and the megawatt amount of each allocation assuming a Base Resource of 500 MW, 1000 MW, and 1500 MW are listed here:

Allottees | Percent | Base resource: 500 MW (MW) | Base resource: 1000 MW (MW) | Base resource: 1500 MW (MW)
Bay Area Rapid Transit District | 0.147 | 0.735 | 1.470 | 2.205
California State Universities (11 campuses) | 0.221 | 1.105 | 2.210 | 3.315
California State University, Sacramento | 0.092 | 0.460 | 0.920 | 1.380
Cawelo Water District | 0.029 | 0.145 | 0.290 | 0.435
Coyote Valley Tribe of Pomo Indians | 0.055 | 0.275 | 0.550 | 0.825
East Bay Municipal Utility District | 0.054 | 0.270 | 0.540 | 0.810
Fallon, City of | 0.221 | 1.105 | 2.210 | 3.315
Healdsburg, City of | 0.087 | 0.435 | 0.870 | 1.305
Lassen Municipal Utility District | 0.105 | 0.525 | 1.050 | 1.575
Lodi, City of | 0.147 | 0.735 | 1.470 | 2.205
Lompoc, City of | 0.120 | 0.600 | 1.200 | 1.800
Modesto Irrigation District | 0.147 | 0.735 | 1.470 | 2.205
Placer County Water Agency | 0.039 | 0.195 | 0.390 | 0.585
Reclamation District No. 108 | 0.043 | 0.215 | 0.430 | 0.645
Redding Rancheria | 0.037 | 0.185 | 0.370 | 0.555
San Francisco, City and County of | 0.147 | 0.735 | 1.470 | 2.205
Sonoma County Water Agency | 0.028 | 0.140 | 0.280 | 0.420
Southern San Joaquin Municipal Utility District | 0.037 | 0.185 | 0.370 | 0.555
Susanville Indian Rancheria | 0.103 | 0.515 | 1.030 | 1.545
Table Mountain Rancheria | 0.147 | 0.735 | 1.470 | 2.205
Truckee Donner Public Utility District | 0.220 | 1.100 | 2.200 | 3.300
Turlock Irrigation District | 0.128 | 0.640 | 1.280 | 1.920
University of California, Berkeley | 0.221 | 1.105 | 2.210 | 3.315
University of California, San Francisco | 0.175 | 0.875 | 1.750 | 2.625
Total | 2.750 | 13.750 | 27.500 | 41.250

Contracting Process

After the effective date of this notice, Western will begin the contracting process with allottees who are not currently customers. Existing customers who received power allocations from the 2005 Resource Pool will receive a revised Exhibit A to their electric service Base Resource contracts, increasing their percentage of the Base Resource. Allottees must execute an electric service contract to purchase the Base Resource no later than December 31, 2000, unless otherwise agreed to in writing by Western. If requested, Western will work with customers to develop a custom product to meet their needs. Custom products are described in the Marketing Plan. Allottees must execute a contract to purchase the custom product, if desired, no later than December 31, 2002, unless otherwise agreed to in writing by Western. The date of initial service under these contracts is January 1, 2005. Contracts will remain in effect until midnight of December 31, 2024. Western will also establish a 2015 Resource Pool for new allocations under a separate public process.

Dated: July 17, 2000.
Michael S. Hacskaylo,
Administrator.

[FR Doc. 00-18870 Filed 7-25-00; 8:45 am]

BILLING CODE 6450-01-P